DEPARTMENT OF COMMERCE

National Oceanic and Atmospheric Administration

Rookery Bay, FL and Kachemak Bay, AK National Estuarine Research Reserve Management Plan Revisions

AGENCY: Estuarine Reserves Division, Office of Ocean and Coastal Resource Management, National Ocean Service, National Oceanic and Atmospheric Administration, Commerce.

ACTION: Notice of Public Comment Period for the Rookery Bay, Florida and Kachemak Bay, Alaska National Estuarine Research Reserve Management Plan Revisions.

SUMMARY: Notice is hereby given that the Estuarine Reserves Division, Office of Ocean and Coastal Resource Management, National Ocean Service, National Oceanic and Atmospheric Administration, U.S. Department of Commerce is announcing a thirty day public comment period for the Rookery Bay, Florida and the Kachemak Bay, Alaska National Estuarine Research Reserve Management Plan Revisions. Pursuant to 15 CFR section 921.33(c), these revisions will bring these plans into compliance. The Rookery Bay, Florida Reserve is updating their last plan approved in 2003; and the Kachemak Bay, Alaska Reserve is updating their last plan approved in 2006. The revised management plans outline the administrative structure; the research, education, training, and stewardship goals of the reserve; and the plans for future land acquisition and facility development to support reserve operations.

The Rookery Bay Reserve takes an integrated approach to management, linking research, education, training and stewardship functions to address high priority issues including land use changes affecting freshwater inflow, loss of native biodiversity, lack of public awareness and community involvement in stewardship, incompatible use by visitors, and ecological impacts of catastrophic change events. Since the last management plan, the reserve has constructed additional exhibits and a pedestrian bridge that connects the Environmental Learning Center to a boardwalk and interpretive trails describing several ecosystems and functions. The revised management plan will serve as the guiding document for the 110,000 acre Rookery Bay Reserve for the next five years.

The Kachemak Bay Reserve takes an integrated approach to management, linking research, education, and training functions to address high priority issues including climate change and harvested species, such as salmon and shellfish. The reserve will continue research on coastal dynamics and their impact to coastal communities, and will be enhancing monitoring programs on invasive species and harmful algal blooms to transfer information to coastal decision makers. Since the last management plan, the reserve has constructed additional exhibits, completed habitat maps of the benthic and shoreline habitats of the bay, and contributed to the body of knowledge on the ecological value of headwater streams to juvenile salmon. The revised management plan will serve as the guiding document for the 372,000 acre Kachemak Bay Reserve for the next five years. No additional lands have been added to the reserve boundary; the discrepancy in designated and current acreage is due to improved mapping accuracy.

View the Rookery Bay, Florida Reserve Management Plan revision at www.floridadep.org/rookery/management/plan.htm and provide comments to Penny.Isom@dep.state.fl.us.

View the Kachemak Bay, Alaska Reserve Management Plan at www.adfg.alaska.gov/index.cfm?adfg=kbrr_resources.management and provide comments to dfg.kbrr.managementplan@alaska.gov.

FOR FURTHER INFORMATION CONTACT: Erica Seiden at (301) 563-1172 or Laurie McGilvray at (301) 563-1158 of NOAA's National Ocean Service, Estuarine Reserves Division, 1305 East-West Highway, N/ORM5, 10th floor, Silver Spring, MD 20910.

Dated: August 8, 2012.
Margaret Davidson,
Acting Director, Office of Ocean and Coastal Resource Management, National Oceanic and Atmospheric, Administration.

[FR Doc. 2012-20228 Filed 8-17-12; 8:45 am]

BILLING CODE 3510-08-M